DEPARTMENT OF TRANSPORTATION

Federal Aviation Administration

14 CFR Part 39

[Docket No. FAA-2009-0313; Directorate Identifier 2008-NM-144-AD; Amendment 39-15769; AD 2008-26-03]

RIN 2120-AA64

Airworthiness Directives; Bombardier Model DHC-8-102, DHC-8-103, DHC-8-106, DHC-8-201, DHC-8-202, DHC-8-301, DHC-8-311, and DHC-8-315 Airplanes Equipped With a Cockpit Door Electronic Strike System Installed in Accordance With Supplemental Type Certificate (STC) ST02014NY

AGENCY: Federal Aviation Administration (FAA), Department of Transportation (DOT).

ACTION: Final rule; correction.

SUMMARY: The FAA is correcting an error in an existing airworthiness directive (AD) that was published in the Federal Register on April 7, 2009 (74 FR 15665). The error resulted in an incorrect product identification line in the regulatory portion of the AD. This AD applies to the transport category airplanes listed above. This AD requires modifying the electronic strike system of the cockpit door.

DATES: Effective April 13, 2009.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Fabio Buttitta, Aerospace Engineer, Systems and Flight Test Branch, ANE-171, FAA, New York Aircraft Certification Office, 1600 Stewart Avenue, Suite 410, Westbury, New York 11590; telephone (516) 228-7303; fax (516) 794-5531.

SUPPLEMENTARY INFORMATION: On March 30, 2009, the FAA issued AD 2008-26-03, Amendment 39-15769 (74 FR 15665, April 7, 2009), for Bombardier Model DHC-8-102, DHC-8-103, DHC-8-106, DHC-8-201, DHC-8-202, DHC-8-301, DHC-8-311, and DHC-8-315 airplanes equipped with a cockpit door electronic strike system installed in accordance with supplemental type certificate (STC) ST02014NY. The AD requires modifying the electronic strike system of the cockpit door.

As published in the Federal Register, the AD identifies “TTF Aerospace LLC” in the product identification line of the AD; however, the name in the product identification line was changed to “Bombardier, Inc.,” in the version posted to the FAA Web site (i.e., the Regulatory and Guidance Library (http://rgl.faa.gov)). All copies of ADs available to the public must be consistent; therefore, we are correcting the version of the AD published in the Federal Register to appropriately identify Bombardier, Inc., in the product identification line.

No other part of the regulatory information has been changed; therefore, the final rule is not republished in the Federal Register.

The effective date of this AD remains April 13, 2009.

§ 39.13 [Corrected]

In the Federal Register of April 7, 2009, on page 15666, in the first column, the paragraph that states “2008-26-03 TTF Aerospace LLC:” of AD 2008-26-03 is corrected to read as follows:

* * * * *

2008-26-03 Bombardier, Inc.:

* * * * *

Issued in Renton, Washington, on July 8, 2009.
Ali Bahrami,
Manager, Transport Airplane Directorate, Aircraft Certification Service.

[FR Doc. E9-17116 Filed 7-17-09; 8:45 am]

BILLING CODE 4910-13-P